DEPARTMENT OF TRANSPORTATION

Office of the Secretary

Privacy Act of 1974: System of Records

AGENCY: Office of the Secretary, DOT.

ACTION: Notice to amend a system of records.

SUMMARY: DOT intends to establish a system of record under the Privacy Act of 1974.

EFFECTIVE DATE: February 24, 2003. If no comments are received, the proposal will become effective on the above date. If comments are received, the comments will be considered and, where adopted, the documents will be republished with changes.

FOR FURTHER INFORMATION CONTACT: Yvonne L. Coates, Department of Transportation, Office of the Secretary, 400 7th Street, SW., Washington, DC 20590, (202) 366-6964 (telephone), (202) 366-7024 (fax), Yvonne.Coates@ost.dot.gov (Internet address).

SUPPLEMENTARY INFORMATION: The Department of Transportation system of records notice subject to the Privacy Act of 1974 (5 U.S.C. 552a), as amended, has been published in the Federal Register and is available from the above mentioned address.

DOT/TSA 010

Security Classification:

Classified, sensitive.

System Name:

Aviation Security Screening Records.

System Location:

Records are maintained at the Office of National Risk Assessment, Transportation Security Administration (TSA), 400 7th Street, SW., Washington, DC 20590.

Categories of Individuals Covered by the System:

Individuals traveling to, from, or within the United States (U.S.) by passenger air transportation; individuals who are deemed to pose a possible risk to transportation or national security, a possible risk of air piracy or terrorism, or a potential threat to airline or passenger safety, aviation safety, civil aviation, or national security.

Categories of Records in the System:

Passenger Name Records (PNRs) and associated data; reservation and manifest information of passenger carriers and, in the case of individuals who are deemed to pose a possible risk to transportation security, record categories may include: risk assessment reports; financial and transactional data; public source information; proprietary data; and information from law enforcement and intelligence sources.

Authority for Maintenance of the System:

49 U.S.C. 114, 44901, and 44903.

Purpose(s):

The system will be used to facilitate the conduct of an aviation security-screening program, including risk assessments to ensure aviation security.

Routine Uses of Records Maintained in the System, Including Categories of Users and the Purposes of Such Uses:

Information may be disclosed from this system as follows:

(1) To appropriate Federal, State, territorial, tribal, local, international, or foreign agencies responsible for investigating or prosecuting the violations of, or for enforcing or implementing, a statute, rule, regulation, order, or license, where TSA becomes aware of an indication of a violation or potential violation of civil or criminal law or regulation.

(2) To contractors, grantees, experts, consultants, agents and other non-Federal employees performing or working on a contract, service, grant, cooperative agreement, or other assignment from the Federal government for the purpose of providing consulting, data processing, clerical, or other functions to assist TSA in any function relevant to the purpose of the system.

(3) To Federal, State, territorial, tribal, and local law enforcement and regulatory agencies—foreign, international, and domestic—in response to queries regarding persons who may pose a risk to transportation or national security; a risk of air piracy or terrorism or a threat to airline or passenger safety; or a threat to aviation safety, civil aviation, or national security.

(4) To individuals and organizations, in the course of enforcement efforts, to the extent necessary to elicit information pertinent to the investigation, prosecution, or enforcement of civil or criminal statutes, rules, regulations or orders regarding persons who may pose a risk to transportation or national security; a risk of air piracy or terrorism or a threat to airline or passenger safety; or a threat to aviation safety, civil aviation, or national security.

(5) To a Federal, State, or local agency, where such agency has requested information relevant or necessary for the hiring or retention of an individual, or issuance of a security clearance, license, contract, grant, or other benefit.

(6) To the news media in accordance with the guidelines contained in 28 CFR 50.2, which relate to civil and criminal proceedings.

(7) To the Department of State, or other Federal agencies concerned with visas and immigration, and to agencies in the Intelligence Community, to further those agencies' efforts with respect to persons who may pose a risk to transportation or national security; a risk of air piracy or terrorism or a threat to airline or passenger safety; or a threat to aviation safety, civil aviation, or national security.

(8) To international and foreign governmental authorities in accordance with law and formal or informal international agreements.

(9) In proceedings before any court, administrative, adjudicative, or tribunal body before which TSA appears, when (a) TSA or (b) any employee of TSA in his/her official capacity, or (c) any employee of TSA in his/her individual capacity where TSA has agreed to represent the employee, or (d) the U.S. or any agency thereof, where TSA determines that the proceeding is likely to affect the U.S., is a party to the proceeding or has an interest in such proceeding, and TSA determines that use of such records is relevant and necessary in the proceeding, provided, however, that in each case, TSA determines that disclosure of the records in the proceeding is a use of the information contained in the records that is compatible with the purpose for which the records were collected.

(10) To airports and aircraft operators, to the extent the disclosure is deemed required in the interests of transportation security.

(11) To the National Archives and Records Administration (NARA) in connection with records management inspections conducted under the authority of 44 U.S.C. 2904 and 2906.

Policies and Practices for Storing, Retrieving, Accessing, Retaining and Disposing of Records in the System:

Storage:

Records are stored on computer at the Office of National Risk Assessment in a secure facility. The records are stored on magnetic disc, tape, digital media, and CD-ROM, and may be retained in hard copy format in secure file folders. The computer system from which records could be accessed is policy and security based with real-time auditing.

Retrievability:

Data are retrievable by the name or other identifying information of the individual, such as flight information.

Safeguards:

Information in this system is safeguarded in accordance with applicable rules and policies, including the Department's automated systems security and access policies. The computer system from which records could be accessed is policy and security based, meaning the access is limited to those individuals who require it to perform their official duties. It also maintains real-time auditing of individuals who access the system. Classified information is appropriately stored in a secured facility, databases, and containers and in accordance with other applicable requirements, including those pertaining to classified documents.

Retention and Disposal:

A request is pending for NARA approval for the retention and disposal of records in this system. For individuals who are deemed to pose a possible risk to transportation security, TSA is requesting that those records may be maintained for up to 50 years. For all other individuals, those records will be purged after completion of the individual's air travel to which the record relates.

System Manager(s) and Address:

Director, Office of National Risk Assessment, TSA, 400 7th St., SW., Washington, DC 20590.

Notification Procedures:

None. Pursuant to 5 U.S.C. 552a(k), this system of records may not be accessed for purposes of determining if the system contains a record pertaining to a particular individual.

Record Access Procedures:

Although the system is exempt from record access procedures pursuant to 5 U.S.C. 552a(k), U.S. citizens and Permanent Resident aliens may request access to records containing information they provided by sending a written request to the System Manager. In the case of air passengers, this data is contained in the passenger name record (PNR). The request must identify the system from which the individual is seeking records, and include a general description of the records sought, the requester's full name, current address and date and place of birth. The request must be signed and either notarized or submitted under penalty of perjury.

Contesting Record Procedures:

U.S. Citizens or Permanent Resident Aliens who wish to contest, or seek amendment of, records containing information they provided, which is maintained in the system, should direct their written requests to the system manager listed above. Requests should clearly and concisely state what information is being contested, the reason(s) for contesting it, and the proposed amendment to the record. The request must also contain the requester's full name, current address and date and place of birth. The request must be signed and either notarized or submitted under penalty of perjury.

Record Source Categories:

This system contains investigative material compiled for law enforcement purposes whose sources need not be reported.

Exemptions Claimed for the System:

This system is exempt from 5 U.S.C. 552a(c)(3), (d), (e)(1), (e)(4)(G), (H) and (I), and (f) of the Privacy Act pursuant to 5 U.S.C. 552a(k)(1) and (k)(2).

Dated: January 8, 2003.
Yvonne L. Coates,
Privacy Act Coordinator.

[FR Doc. 03-827 Filed 1-14-03; 8:45 am]

BILLING CODE 4910-62-P